NUCLEAR REGULATORY COMMISSION

[Docket No. 50-614-CP; ASLBP No. 25-991-01-CP-BD01]

Long Mott Energy, LLC; Establishment of Atomic Safety and Licensing Board

Pursuant to the Commission's regulations, see, e.g., 10 CFR 2.104, 2.105, 2.300, 2.309, 2.313, 2.318, 2.321, notice is hereby given that an Atomic Safety and Licensing Board (Board) is being established to preside over the following proceeding:

Long Mott Energy, LLC (Long Mott Generating Station)

Long Mott Energy, LLC seeks a permit to construct a four-unit reactor facility in Calhoun County, Texas. In response to a notice published in the Federal Register on June 10, 2025 (90 FR 24,428), San Antonio Bay Estuarine Waterkeeper filed a hearing request on August 11, 2025.

The Board is comprised of the following administrative judges:

Stefan R. Wolfe, Chair, Atomic Safety and Licensing Board Panel, U.S. Nuclear Regulatory Commission, Washington, DC 20555-0001

Nicholas G. Trikouros, Atomic Safety and Licensing Board Panel, U.S. Nuclear Regulatory Commission, Washington, DC 20555-0001

Dr. David A. Smith, Atomic Safety and Licensing Board Panel, U.S. Nuclear Regulatory Commission, Washington, DC 20555-0001

Additionally, Administrative Judge G. Paul Bollwerk, III, shall serve as the Board's Special Assistant.

All correspondence, documents, and other materials shall be filed in accordance with the NRC E-Filing rule. See 10 CFR 2.302.

Dated: August 14, 2025.
Rockville, Maryland
Edward R. Hawkens,
Chief Administrative Judge, Atomic Safety and Licensing Board Panel.

[FR Doc. 2025-15706 Filed 8-18-25; 8:45 am]

BILLING CODE 7590-01-P